GENERAL SERVICES ADMINISTRATION

[OMB Control No. 3090-0291; Docket No. 2013-0001; Sequence 11]

Information Collection; FSRS Registration Requirements for Prime Grant Awardees

AGENCY: Office of the Integrated Award Environment, General Services Administration (GSA).

ACTION: Notice of request for comments regarding an extension to an existing OMB clearance information collection.

SUMMARY: Under the provisions of the Paperwork Reduction Act of 1995 (44 U.S.C. Chapter 35), the Regulatory Secretariat Division will be submitting to the Office of Management and Budget (OMB) a request to review and approve a renewal of the currently approved information collection requirement regarding FSRS Registration Requirements for Prime Grant Awardees. The title of the approved information collection is FSRS Registration and Prime Awardee Entity-Related Information Reporting Requirements. To clarify the purpose of the information collection, the updated title is FSRS Registration Requirements for Prime Grant Awardees.

DATES: Submit comments on or before February 28, 2014.

ADDRESSES: Submit comments identified by Information Collection 3090-0291, FSRS Registration Requirements for Prime Grant Awardees by any of the following methods:

• Regulations.gov: http://www.regulations.gov.

Submit comments via the Federal eRulemaking portal by searching “Information Collection 3090-0291, FSRS Registration Requirements for Prime Grant Awardees” under the heading “Enter Keyword or ID” and selecting “Search”. Select the link “Submit a Comment” that corresponds with “Information Collection 3090-0291, FSRS Registration Requirements for Prime Grant Awardees.” Follow the instructions provided at the “Submit a Comment” screen. Please include your name, company name (if any), and “Information Collection 3090-0291, FSRS Registration Requirements for Prime Grant Awardees on your attached document.

• Fax: 202-501-4067.

• Mail: General Services Administration, Regulatory Secretariat (MVCB), 1800 F Street NW., Washington, DC 20405. ATTN: IC 3090-0291.

Instructions: Please submit comments only and cite Information Collection 3090-0291, FSRS Registration Requirements for Prime Grant Awardees, in all correspondence related to this collection. All comments received will be posted without change to http://www.regulations.gov, including any personal and/or business confidential information provided.

FOR FURTHER INFORMATION CONTACT: Mr. Stephen Berry, Program Analyst, Office of the Integrated Award Environment, GSA, at telephone number 703-605-2984; or via email stephen.berry@gsa.gov.

SUPPLEMENTARY INFORMATION:

A. Purpose

The Federal Funding Accountability and Transparency Act (Pub. L. 109-282, as amended by section 6202(a) of P.L. 110-252), known as FFATA or the Transparency Act, requires information disclosure of entities receiving Federal financial assistance through Federal awards such as Federal contracts, sub-contracts, grants and sub-grants, FFATA 2(a),(2),(i),(ii). The system that collects this information is called the FFATA Sub-award Reporting System (FSRS, www.fsrs.gov). This information collection requires information necessary for prime awardee registration in FSRS to create a user log-in and enable sub-award reporting for their entity. To register in FSRS for a user log-in, an entity is required to provide their Data Universal Numbering System (DUNS) number. FSRS then pulls core data about the entity from their System for Award Management (SAM) registration to include the legal business name, physical address, mailing address and Commercial and Government Entity (CAGE) code. The entity completes the FSRS registration by providing contact information within the entity for approval.

If a prime awardee has already registered in FSRS to report contracts-related Transparency Act financial data, a new log-in will not be required. In addition, if a prime awardee had a user account in the Electronic Subcontract Reporting System (eSRS), a new log-in will not be required.

B. Public Comments

Public comments are particularly invited on: Whether this collection of information is necessary for the proper performance of functions of the FSRS Registration Requirements for Prime Grant Awardees, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

C. Annual Reporting Burden

Respondents: 1,844.

Responses per Respondent: 1.

Total annual responses: 1,844.

Hours per Response: .5.

Total Burden Hours: 922.

Obtaining Copies of Proposals: Requesters may obtain a copy of the information collection documents from the General Services Administration, Regulatory Secretariat (MVCB), 1800 F Street NW., Washington, DC 20405, telephone 202-501-4755. Please cite OMB Control No. 3090-0291, FSRS Registration Requirements for Prime Grant Awardees, in all correspondence.

Dated: December 18, 2013.
Casey Coleman,
Chief Information Officer.

[FR Doc. 2013-31171 Filed 12-27-13; 8:45 am]

BILLING CODE 6820-XY-P